DEPARTMENT OF DEFENSE

Department of the Army

Availability for Non-Exclusive, Exclusive, or Partially Exclusive Licensing of U.S. Patent Application Concerning Method of Establishing Cultures of Human Dendritic Cells and Use Thereof

AGENCY: Department of the Army, DoD.

ACTION: Notice.

SUMMARY: In accordance with 37 CFR 404.6 and 404.7, announcement is made of the availability for licensing of U.S. Patent Application No. 09/712,688 entitled “Method of Establishing Cultures of Human Dendritic Cells and Use Thereof,” filed November 14, 1999. Foreign rights are also available (PCT/US00/31465). The United States Government, as represented by the Secretary of the Army, has rights in this invention.

ADDRESSES: Commander, U.S. Army Medical Research and Materiel Command, Attn: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A simple method for producing dendritic cells from peripheral blood monocytes is provided. The dendritic cells may be used as adjuvants for vaccines and immunotherapies. The mature dendritic cells also provide an effective means of producing novel T cell dependent antigens comprised of dendritic cell modified antigens useful as vaccines or for the treatment of disease.

Luz D. Ortiz,
Army Federal Register Liaison Officer.

[FR Doc. 03-13597 Filed 5-30-03; 8:45 am]

BILLING CODE 3710-08-M